DEPARTMENT OF COMMERCE

International Trade Administration

[A-351-503, A-122-503, A-570-502]

Certain Iron Construction Castings From Brazil, Canada and the People's Republic of China: Final Results of Expedited Fifth Sunset Review of Antidumping Duty Orders

AGENCY: Enforcement and Compliance, International Trade Administration, Department of Commerce.

SUMMARY: As a result of these sunset reviews, the Department of Commerce (Commerce) finds that revocation of the antidumping duty (AD) orders would be likely to lead to continuation or recurrence of dumping at the dumping margins identified in the “Final Results of Reviews” section of this notice.

DATES: Applicable March 16, 2022.

FOR FURTHER INFORMATION CONTACT: Christopher Hargett, AD/CVD Operations, Office II, Enforcement and Compliance, International Trade Administration, U.S. Department of Commerce, 1401 Constitution Avenue, Washington, DC, 20230; telephone: (202) 482-4161.

SUPPLEMENTARY INFORMATION:

Background

On October 1, 2021, Commerce published the notice of initiation of the fifth sunset review of the AD orders on certain iron construction castings from Brazil, Canada, and the People's Republic of China (China) ¹ pursuant to section 751(c) of the Tariff Act of 1930, as amended (the Act).²

¹ See Antidumping Duty Order: Iron Construction Castings from Brazil, 51 FR 17220 (May 9, 1986); see also Antidumping Duty Order: Certain Iron Construction Castings from Canada, 51 FR 7600 (March 5, 1986), amended by Iron Construction Castings from Canada; Amendment to Final Determination of Sales at Less Than Fair Value and Amendment to Antidumping Duty Order, 51 FR 34110 (September 25, 1986); and Antidumping Duty Order: Iron Construction Castings from the People's Republic of China, 51 FR 17222 (May 9, 1986) (collectively Orders).

² See Initiation of Five Year (Sunset) Reviews, 86 FR 68220 (December 1, 2021).

On December 16, 2021, D&L Foundry, Inc.; EJ USA, Inc.; Neenah Foundry Company; and U.S. Foundry & Manufacturing Corporation (collectively, “domestic interested parties”) notified Commerce of their intent to participate within the 15-day period specified in 19 CFR 351.218(d)(1). The domestic interested parties claimed interested party status under section 771(9)(C) of the Act as producers of a domestic like product in the United States.

On December 20, 2021, Commerce received complete substantive responses to the Notice of Initiation with respect to the Orders, from the domestic interested parties within the 30-day period specified in 19 CFR 351.218(d)(3)(i).³ Commerce received no substantive responses from respondent interested parties. As a result, pursuant to section 751(c)(3)(8) of the Act and 19 CFR 351.218(e)(l)(ii)(C)(2), Commerce has conducted expedited (120-day) sunset reviews of the AD orders on certain iron construction castings from Brazil, Canada, and China.

³ See Domestic Interested Parties' Letter, “Five Year (`Sunset') Review of the Antidumping Duty Order on Iron Construction Castings from the People's Republic of China—Domestic Interested Parties' Substantive Response”; “Five Year (`Sunset') Review of the Antidumping Duty Order on Iron Construction Castings from Brazil—Domestic Interested Parties' Substantive Response,”; and “Five Year (`Sunset') Review of the Antidumping Duty Order on Iron Construction Castings from Canada—Domestic Interested Parties' Substantive Response,” each dated December 31, 2022.

Scope of the Orders

The scope of the Orders is certain iron construction castings from Brazil, Canada, and China. For a complete description of the scope of the Orders, see the appendix to this notice.

Analysis of Comments Received

A complete discussion of all issues raised in these sunset reviews is provided in the accompanying Issues and Decision Memorandum.⁴ The issues discussed in the Issues and Decision Memorandum include the likelihood of continuation or recurrence of dumping and the magnitude of the margins of dumping likely to prevail if the Orders were revoked. The Issues and Decision Memorandum is a public document and is on file electronically via Enforcement and Compliance's Antidumping and Countervailing Duty Centralized Electronic Service System (ACCESS). ACCESS is available to registered users at http://access.trade.gov. In addition, a complete version of the Issues and Decision Memorandum can be accessed at https://access.trade.gov/public/FRNoticesListLayout.aspx.

⁴ See Memorandum, “Issues and Decision Memorandum for the Final Results of Expedited Fourth Sunset Reviews of the Antidumping Duty Orders on Certain Iron Construction Castings from Brazil, Canada, and the People's Republic of China,” dated concurrently with, and hereby adopted by, this notice.

Final Results of the Sunset Reviews

Pursuant to sections 751(c)(1) and 752(c)(1) and (3) of the Act, Commerce determines that revocation of the AD orders on certain iron construction castings from Brazil, Canada, and China would likely to lead to a continuation or recurrence of dumping, and that the magnitude of the dumping margins likely to prevail would be weighted-average margins up to 58.74 percent for Brazil, up to 25.52 percent for China, and above de minimis for Canada.

Notification Regarding Administrative Protective Orders

This notice also serves as the only reminder to parties subject to administrative protective orders (APO) of their responsibility concerning the return or destruction of proprietary information disclosed under APO in accordance with 19 CFR 351.305. Timely notification of the return or destruction of APO materials or conversion to judicial protective order is hereby requested. Failure to comply with the regulations and terms of an APO is a violation which is subject to sanction.

Notification to Interested Parties

We are issuing and publishing the results and notice in accordance with sections 751(c), 752(c), and 777(i)(1) of the Act and 19 CFR 351.218.

Dated: March 10, 2022.
Lisa W. Wang,
Assistant Secretary for Enforcement and Compliance.

Appendix

Scope of the Orders

Brazil

The merchandise covered by the order consists of certain iron construction castings from Brazil, limited to manhole covers, rings, and frames, catch basin grates and frames, cleanout covers and frames used for drainage or access purposes for public utility, water and sanitary systems, classifiable as heavy castings under Harmonized Tariff Schedule (HTS) item numbers 7325.10.0010 7325.10.0020, 7325.10.0025; and to valve, service, and meter boxes which are placed below ground to encase water, gas, or other valves, or water and gas meters, classifiable as light castings under HTS item numbers 7325.10.0030, 7325.10.0035, 7325.99.1000. The HTS item numbers are provided for convenience and Customs purposes only. The written description remains dispositive.

Canada

The merchandise covered by the order consists of certain iron construction castings from Canada, limited to manhole covers, rings, and frames, catch basin grates and frames, clean-out covers, and frames used for drainage or access purposes for public utility, water and sanitary systems, classifiable as heavy castings under HTS item numbers 7325.10.0010, 7325.10.0020, 7325.10.0025, 7325.99.1000. The HTS item numbers are provided for convenience and customs purposes only. The written description remains dispositive.

China

The products covered by this order are certain iron construction castings, limited to manhole covers, rings and frames, catch basin grates and frames, cleanout covers and drains used for drainage or access purposes for public utilities, water and sanitary systems; and valve, service, and meter boxes which are placed below ground to encase water, gas, or other valves, or water or gas meters. These articles must be of cast iron, not alloyed, and not malleable. This merchandise is currently classifiable under the HTS item number 7325.10.0010 and 7325.10.0050. The HTS item numbers are provided for convenience and Customs purposes. The written product description remains dispositive.

[FR Doc. 2022-05550 Filed 3-15-22; 8:45 am]

BILLING CODE 3510-DS-P